DEPARTMENT OF ENERGY

Federal Energy Regulatory Commission

[Project Nos. 14260-000, 14264-000, 14267-000, 14273-000]

Lock+ Hydro Friends Fund XII, BOST2, LLC, Riverbank Hydro No. 21, LLC, FFP Project 96, LLC; Notice Announcing Preliminary Permit Drawing

The Commission has received four preliminary permit applications deemed filed on September 1, 2011, at 8:30 a.m.,¹ for proposed projects to be located at the U.S. Army Corps of Engineers' A.I. Selden Lock and Dam on the Black Warrior River, in Greene and Hale counties, Alabama. The applications were filed by Lock+ Hydro Friends Fund XII for Project No. 14260-000, BOST2, LLC for Project No. 14264-000, Riverbank Hydro No. 21, LLC for Project No. 14267-000, and FFP Project 96, LLC for Project No. 14273-000.

¹ Under the Commission's Rules of Practice and Procedure, any document received after regular business hours is considered filed at 8:30 a.m. on the next regular business day. 18 CFR 385.2001(a)(2) (2011).

On February 28, 2012, at 9 a.m. (eastern time), the Secretary of the Commission, or her designee, will conduct a random drawing to determine the filing priority of the applicants identified in this notice. The Commission will select among competing permit applications as provided in section 4.37 of its regulations.² The priority established by this drawing will be used to determine which applicant, among those with identical filing times, will be considered to have the first-filed application.

² 18 CFR 4.37 (2011).

The drawing is open to the public and will be held in room 2C, the Commission Meeting Room, located at 888 First St. NE., Washington, DC 20426. A subsequent notice will be issued by the Secretary announcing the results of the drawing.

Dated: February 16, 2012.
Nathaniel J. Davis, Sr.,
Deputy Secretary.

[FR Doc. 2012-4188 Filed 2-22-12; 8:45 am]

BILLING CODE 6717-01-P